DEPARTMENT OF COMMERCE

Foreign-Trade Zones Board

[Order No. 1766]

Reorganization and Expansion of Foreign-Trade Zone 153 Under Alternative Site Framework, San Diego, CA

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the City of San Diego, California, grantee of Foreign-Trade Zone 153, submitted an application to the Board (FTZ Docket 1-2011, filed 01/03/2011) for authority to reorganize and expand under the ASF with a service area of the City and County of San Diego and a portion of Riverside County, California, within and adjacent to the San Diego U.S. Customs and Border Protection port of entry, FTZ 153's existing Sites 2-10 would be categorized as magnet sites, Sites 6 and 10 would be reduced in size, existing Site 14 would be categorized as a usage-driven site, and the grantee proposes three additional usage-driven sites (Sites 11-13);

Whereas, notice inviting public comment was given in the Federal Register (76 FR 1132-1133, 01/07/2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 153 under the alternative site framework is approved, subject to the FTZ Act and the Board's regulations, including Section 400.28, to the Board's standard 2,000-acre activation limit for the overall general-purpose zone project, to a five-year ASF sunset provision for magnet sites that would terminate authority for Sites 2-10 if not activated by June 30, 2016, and to a three-year ASF sunset provision for usage-driven sites that would terminate authority for Sites 11-14 if no foreign-status merchandise is admitted for a bona fide customs purpose by June 30, 2014.

Signed at Washington, DC, this 3rd day of June 2011.
Ronald K. Lorentzen,
Deputy Assistant Secretary for Import Administration, Alternate Chairman, Foreign-Trade Zones Board.

[FR Doc. 2011-14577 Filed 6-10-11; 8:45 am]

BILLING CODE 3510-DS-P